FEDERAL MARITIME COMMISSION

[Docket No. 06-09]

Parks International Shipping, Inc., et al., Order of Investigation and Hearing

Parks International Shipping, Inc. (“Parks”) was incorporated in the State of New York on July 28, 1999, and is presently located at 3008/3010 Eastchester Road, Bronx, New York 10469. Parks also has a second location at 4755 White Plains Road, Bronx, NY 10470. Ainsley Lewis a.k.a. Jim Parks (“Ainsley Lewis”) occupies the position of President. Cargo Express International Shipping, Inc. (“Cargo Express”) is similarly located at 3010 Eastchester Road, Bronx, New York 10469 and was incorporated in New York State on January 23, 2003. Based upon available information, Ainsley Lewis appears to be involved in the operation of Cargo Express. Bronx Barrels & Shipping Supplies Shipping Center Inc. (“Bronx Barrels”) was incorporated in the State of New York on November 11, 2005. Its primary location is at 4755A White Plains Road, Bronx, New York 10470. Bronx Barrels also has a second location at 3008 Eastchester Road, Bronx, New York, 10469. Based upon available information, Ainsley Lewis also appears to be involved in the operation of Bronx Barrels. Parks, Cargo Express, and Bronx Barrels appear to be ocean transportation intermediaries (“OTIs”) operating as unlicensed, unbonded, and untariffed non-vessel-operating common carriers (“NVOCCs”) primarily in the trade between the United States and various Caribbean, Central American, and South American destinations.

Based on evidence available to the Commission, it appears that Parks has knowingly and willfully provided transportation services as an NVOCC with respect to shipments during 2001, 2002, 2004, and 2005 without obtaining an OTI license from the Commission and without providing proof of financial responsibility. Moreover, it appears that Parks knowingly and willfully operated as a common carrier without publishing a tariff showing all of its active rates and charges. Cargo Express also appears to have knowingly and willfully provided transportation services as an NVOCC without obtaining an OTI license from the Commission and without providing proof of financial responsibility with respect to shipments commencing in 2004. It further appears that Cargo Express knowingly and willfully operated as a common carrier without publishing a tariff showing all of its active rates and charges. Bronx Barrels likewise appears to be knowingly and willfully holding itself out to provide transportation services as an NVOCC without obtaining an OTI license from the Commission and without providing proof of financial responsibility in the form of a surety bond. Additionally, Bronx Barrels appears to have been knowingly and willfully operating as a common carrier without publishing a tariff showing all of its active rates and charges. Finally, Ainsley Lewis, individually and through Parks, Cargo Express, and Bronx Barrels, appears to have been providing OTI services in 2001, 2002, 2004, 2005, and 2006 without publishing a tariff, obtaining an OTI license from the Commission, and providing proof of financial responsibility.

Section 19 of the Shipping Act of 1984 (1984 Act), 46 U.S.C. app. 1718, prohibits any person from providing OTI ¹ services prior to being issued a license from the Commission and obtaining a valid bond, proof of insurance, or other surety in a form and amount determined by the Commission to ensure financial responsibility. The Commission's regulations at 46 CFR 515.21 support this obligation by requiring any person operating as an OTI/NVOCC in the United States to provide evidence of financial responsibility in the amount of $75,000. Furthermore, section 8(a) of the 1984 Act, 46 U.S.C. app. 1707(a), requires NVOCCs to publish (open to public inspection in an automated tariff system) tariffs showing all their active rates, charges, classifications, and practices. The Commission's regulations at 46 CFR 520.3 affirm this statutory requirement by directing each NVOCC to notify the Commission, prior to providing transportation services, as to the location of its tariffs, as well as the publisher used to maintain those tariffs by filing a Form FMC-1. Pursuant to section 13 of the 1984 Act, 46 U.S.C. app. 1712, a party is subject to a civil penalty of not more than $30,000 for each violation knowingly and willfully committed, and not more than $6,000 for other violations.²

¹ According to section 3(17) of the 1984 Act, 46 U.S.C. app. 1702(17), an ocean transportation intermediary is defined as either a freight forwarder or a non-vessel-operating common carrier.

² This penalty amount reflects an adjustment for inflation pursuant to the Commission's regulations at 46 CFR part 506.

Now therefore, it is ordered, that pursuant to sections 8, 11, 13, and 19 of the 1984 Act, 46 U.S.C. app. 1707, 1710, 1712, and 1718, an investigation is instituted to determine:

(1) Whether Parks International Shipping, Inc., Cargo Express International Shipping, Inc., Bronx Barrels & Shipping Supplies Shipping Center, Inc., and/or Ainsley Lewis a.k.a. Jim Parks violated section 8(a) of the 1984 Act and the Commission's regulations at 46 CFR part 520 by operating as common carriers without publishing tariffs showing all of their active rates and charges;

(2) Whether Parks International Shipping, Inc., Cargo Express International Shipping, Inc., Bronx Barrels & Shipping Supplies Shipping Center Inc., and/or Ainsley Lewis a.k.a. Jim Parks violated section 19 of the 1984 Act and the Commission's regulations at 46 CFR part 515 by operating as non-vessel-operating common carriers in the U.S. trades without obtaining licenses from the Commission and without providing proof of financial responsibility;

(3) Whether, in the event violations of sections 8(a) and 19 of the 1984 Act and/or 46 CFR Parts 515 and 520 are found, civil penalties should be assessed against Parks International Shipping, Inc., Cargo Express International Shipping, Inc., Bronx Barrels & Shipping Supplies Shipping Center Inc., and/or Ainsley Lewis a.k.a. Jim Parks and, if so, the amount of the penalties to be assessed; and

(4) Whether, in the event violations are found, appropriate cease and desist orders should be issued against Parks International Shipping, Inc., Cargo Express International Shipping, Inc., Bronx Barrels & Shipping Supplies Shipping Center Inc., and/or Ainsley Lewis a.k.a. Jim Parks.

It is further ordered, that a public hearing be held in this proceeding and that this matter be assigned for hearing before an Administrative Law Judge of the Commission's Office of Administrative Law Judges at a date and place to be hereafter determined by the Administrative Law Judge in compliance with Rule 61 of the Commission's Rules of Practice and Procedure, 46 CFR 502.61. The hearing shall include oral testimony and cross-examination in the discretion of the presiding Administrative Law Judge only after consideration has been given by the parties and the presiding Administrative Law Judge to the use of alternative forms of dispute resolution, and upon a proper showing that there are genuine issues of material fact that cannot be resolved on the basis of sworn statements, affidavits, depositions, or other documents or that the nature of the matters in issue is such that an oral hearing and cross-examination are necessary for the development of an adequate record;

It is further ordered, that Parks International Shipping, Inc., Cargo Express International Shipping, Inc., Bronx Barrels & Shipping Supplies Shipping Center Inc., and Ainsley Lewis a.k.a. Jim Parks are designated as Respondents in this proceeding;

It is further ordered, that the Commission's Bureau of Enforcement is designated a party to this proceeding;

It is further ordered, that notice of this Order be published in the Federal Register, and a copy be served on the parties of record;

It is further ordered, that other persons having an interest in participating in this proceeding may file petitions for leave to intervene in accordance with Rule 72 of the Commission's Rules of Practice and Procedure, 46 CFR 502.72;

It is further ordered, that all further notices, orders, and/or decisions issued by or on behalf of the Commission in this proceeding, including notice of the time and place of hearing or prehearing conference, shall be served on parties of record;

It is further ordered, that all documents submitted by any party of record in this proceeding shall be directed to the Secretary, Federal Maritime Commission, Washington, DC 20573, in accordance with Rule 118 of the Commission's Rules of Practice and Procedure, 46 CFR 502.118, and shall be served on parties of record; and

It is further ordered, that in accordance with Rule 61 of the Commission's Rules of Practice and Procedure, the initial decision of the Administrative Law Judge shall be issued by September 19, 2007 and the final decision of the Commission shall be issued by January 17, 2008.

Bryant L. VanBrakle,
Secretary.

[FR Doc. 06-8196 Filed 9-25-06; 8:45 am]

BILLING CODE 6730-01-P